DEPARTMENT OF LABOR

Employment and Training Administration

[TA-W-54,081]

The Toro Company, Oxford, MS; Dismissal of Application for Reconsideration

Pursuant to 29 CFR 90.18(c) an application for administrative reconsideration was filed with the Director of the Division of Trade Adjustment Assistance for workers at The Toro Company, Oxford, Mississippi. The application contained no new substantial information which would bear importantly on the Department's determination. Therefore, dismissal of the application was issued.

TA-W-54,081; The Toro Company Oxford, Mississippi (May 7, 2004)

Signed at Washington, DC, this 13th day of May, 2004.
Timothy Sullivan,
Director, Division of Trade Adjustment Assistance.

[FR Doc. 04-11625 Filed 5-21-04; 8:45 am]

BILLING CODE 4510-30-P